DEPARTMENT OF ENERGY

Federal Energy Regulatory Commission

[Project No. 176-035]

City of Escondido, CA, and Vista Irrigation District; Notice of Application Accepted for Filing, Ready for Environmental Analysis, and Soliciting Comments, Motions To Intervene, and Protests

Take notice that the following hydroelectric application has been filed with the Commission and is available for public inspection:

a. Application Type: Surrender of License.

b. Project No: 176-035.

c. Date Filed: December 3, 2010.

d. Applicant: City of Escondido, California (Escondido) and Vista Irrigation District (Vista).

e. Name of Project: Escondido Hydroelectric Project.

f. Location: On the San Luis Rey River in San Diego County, near Escondido, California. The project occupies 290 acres of Federal lands under the jurisdiction of the U.S. Forest Service and the U.S. Bureau of Land Management. The project also occupies 66 acres of Indian reservation lands owned by the La Jolla, San Pasqual, and Rincon Indian Tribes.

g. Filed Pursuant to: Federal Power Act, 16 U.S.C. 791a-825r (2006).

h. Applicant Contact: Donald R. Lincoln, Special Counsel for the City of Escondido, Endeman, Lincoln, Turek & Heater, LLP, 600 “B” Street, Suite 2400, San Diego, CA 92101-4582, (619) 544-0123; and Don A. Smith, Director of Water Resources, Vista Irrigation District, 1391 Engineer Street, Vista, CA 92081, (207) 945-5621.

i. FERC Contact: Carolyn Templeton, (202) 502-8785, or carolyn.templeton@ferc.gov.

j. This application has been accepted for filing and is now ready for environmental analysis.

k. Deadline for filing comments, motions to intervene, protests, recommendations, and terms and conditions: 60 days from the issuance date of this notice; reply comments are due 105 days from the issuance date of this notice.

All documents may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426. Please include the project number (P-176-035) on any comments, motions, or protests filed.

l. Description of Surrender: Escondido and Vista would surrender the following project facilities: (1) Two storage reservoirs (Lake Henshaw on San Luis Rey River and Lake Wohlford on Escondido Creek) with a combined storage capacity of approximately 58,000 acre-feet; (2) one diversion dam on the San Luis Rey River; (3) four primary water conduits (Upper Escondido Canal—5.93 miles; Rincon Penstock—0.4 mile; Lower Escondido Canal—7.72 miles; and Wohlford Penstock—0.76 mile); (4) the Rincon powerhouse; (5) public recreation facilities at Lake Henshaw and Lake Wohlford; and (6) appurtenant facilities and features. The Escondido Hydroelectric Project extends from Lake Henshaw at an elevation of about 2,700 feet to Bear Valley Powerhouse at an elevation of 750 feet. The Escondido canal currently consists of approximately 58,404 feet of gunite-lined canal; 3,567 feet of tunnel; 670 feet of metal flume; 2,156 feet of inverted siphon; and 6,118 feet of pipeline.

In a concurrent filing, Escondido and Vista have filed an application for a conduit exemption for the Bear Valley Powerhouse that is part of the Escondido Hydroelectric Project. The Bear Valley powerhouse is the only portion of the Escondido Hydroelectric Project that is a power generation facility.

m. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item (h) above.

You may also register online at http://www.ferc.gov/docs-filing/esubscription.asp to be notified via e-mail of new filings and issuances related to this or other pending projects. For assistance, contact FERC Online Support.

o. Protests or Motions to Intervene—Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

p. All filings must (1) bear in all capital letters the title “PROTEST,” “MOTION TO INTERVENE,” “COMMENTS,” or “REPLY COMMENTS;” (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All comments, motions to intervene, or protests should relate to project works which are the subject of the license surrender. Agencies may obtain copies of the application directly from the applicant. Any of these documents must be filed by providing the original and eight copies to: The Secretary, Federal Energy Regulatory Commission, 888 First Street, NE., Washington, DC 20426. An additional copy must be sent to Director, Division of Hydropower Administration and Compliance, Office of Energy Projects, Federal Energy Regulatory Commission, at the above address. A copy of any protest or motion to intervene must be served upon each representative of the applicant specified in the particular application. A copy of all other filings in reference to this application must be accompanied by proof of service on all persons listed in the service list prepared by the Commission in this proceeding, in accordance with 18 CFR 4.34(b) and 385.2010.

q. With this notice, we are initiating consultation with the California State Historic Preservation Officer, as required by section 106 of the National Historic Preservation Act, and the regulations of the Advisory Council on Historic Preservation, 36 CFR 800.4.

Dated: March 1, 2011.
Kimberly D. Bose,
Secretary.

[FR Doc. 2011-5205 Filed 3-7-11; 8:45 am]

BILLING CODE 6717-01-P